NATIONAL SCIENCE FOUNDATION

Special Emphasis Panel in Materials Research; Notice of Meeting

In accordance with the Federal Advisory Committee Act (Pub. L. 92-463 as amended), the National Science Foundation announces the following meeting:

Name: Special Emphasis Panel in Materials Research (1203).

Date/Time: April 12 and April 13, 2001; 8 a.m.-6 p.m.

Place: National Science Foundation, 4201 Wilson Blvd., Room 330, Arlington, VA.

Type of Meeting: Closed.

Contact Person: Dr. Guebre X. Tessema, Program Director, National Facilities and Instrumentation, Division of Materials Research, Room 1065, National Science Foundation, 4201 Wilson Boulevard, Arlington, VA 22230, Telephone (703) 292-4943.

Purpose of Meeting: To provide advice and recommendations concerning proposals submitted to NSF for financial support.

Agenda: Review and evaluate proposals as part of the selection process to determine finalists considered for the FY2001 Instrumentation for Materials Research (IMR) and Major Research Instrumentation (MRI) Programs.

Reason for Closing: The proposals being reviewed include information of a proprietary or confidential nature, including technical information, financial data such as salaries, and personal information concerning individuals associated with the proposals. These matters are exempt under 5 U.S.C. 552b(c) (4) and (6) of the Government in the Sunshine Act.

Dated: March 13, 2001.
Susanne Bolton,
Committee Management Officer.

[FR Doc. 01-6575 Filed 3-15-01; 8:45 am]

BILLING CODE 7555-01-M